DEPARTMENT OF TRANSPORTATION

Federal Motor Carrier Safety Administration

Controlled Substances and Alcohol Testing Management Information System (MIS) Statistical Data

AGENCY: Federal Motor Carrier Safety Administration (FMCSA), DOT.

ACTION: Notice.

SUMMARY: The FMCSA announces the motor carrier industry's 1999 controlled substances and alcohol usage rates based on testing data submitted by a random sample of motor carriers. The positive rate for controlled substances was 1.3 percent in calendar year 1999. The alcohol “violation” rate was 0.2 percent in 1999. Because the positive rate from controlled substances testing has remained above 1.0 percent during this same period, the FMCSA will maintain the random controlled substances testing rate for calendar year 2001 at 50 percent, in accordance with FMCSA regulations. Because the alcohol testing violation rate has remained below 0.5 percent for 1999, the FMCSA announces that it is maintaining the random alcohol testing rate for calendar year 2001 at 10 percent, in accordance with the provisions of the testing regulations. This lowered rate continues the DOT policy set in 1998 when data supported the same policy decision. This notice continues the existing policy. It is effective until further notice.

FOR FURTHER INFORMATION CONTACT: For enforcement questions: Mr. Kenneth Rodgers, Office of Enforcement and Compliance (MC-ECE), 202-366-4016; for substance questions: Mr. David M. Lehrman, Office of Policy, Plans and Regulations (MC-PRR), 202-366-0994; for statistical questions: Mr. Richard Gruberg, Office of Data Analysis and Information Systems (MC-RIA), 202-366-2959; for legal questions, Mr. Michael Falk, Office of the Chief Counsel (MC-CC), 202-366-1384, Federal Motor Carrier Safety Administration, 400 Seventh Street, SW., Washington, DC 20590.

SUPPLEMENTARY INFORMATION:

Background

On December 23, 1993 (58 FR 68220), the FHWA (the predecessor agency to the FMCSA) announced it would require motor carriers subject to 49 CFR part 391, later replaced by part 382, to implement and maintain specific controlled substance testing data, and submit an appropriate annual report when requested. All motor carriers must maintain this information. The FHWA randomly selected a sample of motor carriers annually and asked those selected to submit their data.

On February 15, 1994 (59 FR 7484), the FHWA promulgated new controlled substances and alcohol testing rules in 49 CFR part 382. These rules combined the controlled substances annual report with a similar alcohol rule “violation” annual report. Alcohol rule violations for purposes of the annual report are alcohol concentrations of 0.04 or greater and refusals to submit to alcohol testing.

On March 13, 1995, the FHWA amended the rules to reduce the information collection burden on all respondents, including small entities (60 FR 13369).

The current rule at § 382.403, formerly at 49 CFR 391.87(h), is essential for the accomplishment of the following four goals:

1. Collection of controlled substances and alcohol testing statistical data.

2. Using the data to analyze the FMCSA's current approach to deterring and detecting illegal controlled substances use and alcohol misuse in the motor carrier industry.

3. Determining each calendar year's random selection rates for alcohol and controlled substances testing under the rule.

4. Providing for a more efficient and effective regulatory program.

In 1995, the FHWA requested a sample of motor carriers to report data collected in 1994. The FHWA determined the random positive controlled substances usage rate for commercial motor vehicle (CMV) drivers subject to 49 CFR part 391, subpart H, for the period of January 1, 1994, through December 31, 1994, was 2.6 percent. Based on data collected in subsequent years, this rate was determined to be 2.8 percent in 1995 and 2.2 percent in 1996.

Estimates of positive usage rates for alcohol were first produced for calendar year 1995. The alcohol testing “violation” rate was 0.14 percent in 1995, and 0.18 percent in 1996.

The criteria for raising or lowering the random testing rates are established by regulation. Under 49 CFR § 382.305(d)(1), when the minimum annual percentage rate for random alcohol testing is 25 percent or more, the FMCSA Administrator may lower the rate to 10 percent of all driver positions if the Administrator determines that the data received under the reporting requirements of § 382.403 for two consecutive years indicate that the violation rate is less than 0.5 percent.

Based upon this authority, and because the violation rate was below 0.5 percent for two consecutive years, the FHWA announced it was lowering the random alcohol testing rate for calendar year 1998 to 10 percent. The random controlled substances testing rate remained 50 percent. On January 14, 1998 (63 FR 2172) the agency published this policy in a notice including an extensive appendix C explaining the methodology used to estimate the controlled substances positive and alcohol violation rates.

The controlled substances usage rate based on 1998 survey data was 1.5 percent. The alcohol violation rate for 1998 was 0.4 percent.

This notice announces the results of data collected for the 1999 FMCSA Drug and Alcohol Surveys. These surveys, conducted annually, measure the percentage of CDL drivers testing positive for controlled substances (as defined in 49 CFR § 40.21) and/or alcohol, based on both random and nonrandom testing. The survey data are collected from a random sample of motor carrier annual drug and alcohol testing summaries. Because the positive rate from random controlled substances testing has remained above 1.0 percent during this period, the FMCSA is maintaining the random controlled substances testing rate for calendar year 2001 at 50 percent, in accordance with 49 CFR § 382.305(g). The FMCSA is also maintaining the random alcohol testing rate for calendar year 2001 at 10 percent, in accordance with 49 CFR 382.305(d)(1).

Issued on: June 11, 2001.
Stephen E. Barber,
Acting Deputy Administrator.

[FR Doc. 01-15332 Filed 6-15-01; 8:45 am]

BILLING CODE 4910-EX-P